FEDERAL MINE SAFETY AND HEALTH REVIEW COMMISSION

Sunshine Act Meetings

TIME AND DATE: 10 a.m., Wednesday, October 15, 2025.

PLACE: The Richard V. Backley Hearing Room, Room 511, 1331 Pennsylvania Avenue NW, Suite 504 North, Washington, DC 20004 (enter from F Street entrance).

STATUS: Open.

MATTERS TO BE CONSIDERED: The Commission will consider and act upon the following in open session: Secretary of Labor v. Cargill Inc., Docket No. LAKE 2022-0285 and LAKE 2023-0013 (Issues include: (1) whether substantial evidence supports the Judge's determination that the operator did not violate the mandatory safety standard at 30 CFR 57.11051(a); and (2) whether the Judge erred in concluding that, even if a violation of section 57.11051(a) had been established, a lack of notice did not support the assessment of a penalty).

Any person attending this meeting who requires special accessibility features and/or auxiliary aids, such as sign language interpreters, must inform the Commission in advance of those needs. Subject to 29 CFR 2706.150(a)(3) and 2706.160(d).

CONTACT PERSON FOR MORE INFORMATION: Rory P. Smith (202) 525-8649/(202) 708-9300 for TDD Relay/1-800-877-8339 for toll free.

Phone Number for Listening to Meeting: 1 (866) 236-7472. Passcode: 678-100.

(Authority: 5 U.S.C. 552b.)

Dated: September 3, 2025.
Rory P. Smith,
Attorney-Advisor.

[FR Doc. 2025-17085 Filed 9-3-25; 4:15 pm]

BILLING CODE 6735-01-P